DEPARTMENT OF ENERGY

Office of Energy Efficiency and Renewable Energy

Energy Conservation Program for Consumer Products: Granting of the Application for Interim Waiver and Publishing of the Petition for Waiver of Electrolux Home Products from the DOE Refrigerator and Refrigerator-Freezer Test Procedure (Case No. RF-005)

AGENCY: Office of Energy Efficiency and Renewable Energy, Department of Energy.

ACTION: Notice.

SUMMARY: Today's notice grants an Interim Waiver to Electrolux Home Products (Electrolux) from the existing Department of Energy (DOE or Department) refrigerator test procedure regarding long-time automatic defrost for the company's variable defrost control products.

Today's notice also publishes a “Petition for Waiver” from Electrolux. Electrolux's Petition for Waiver requests DOE to modify the DOE refrigerator test procedure relating to the long-time automatic defrost calculation. Electrolux seeks to change the time used for the beginning of the defrost period in the long-time automatic defrost calculation for refrigerators having a variable defrost control function.

The Department is soliciting comments, data, and information respecting the Petition for Waiver.

DATES: DOE will accept comments, data, and information not later than September 4, 2001.

ADDRESSES: Written comments and statements shall be sent to: Department of Energy, Office of Building Research and Standards, Case No. RF-005, Mail Stop EE-41, Room 1J-018, Forrestal Building, 1000 Independence Avenue, SW, Washington, DC 20585-0121.

FOR FURTHER INFORMATION CONTACT: Mr. Michael G. Raymond, U.S. Department of Energy, Office of Energy Efficiency and Renewable Energy, Mail Station EE-41, Forrestal Building, 1000 Independence Avenue, SW, Washington, DC 20585-0121, (202) 586-9611, or Mr. Eugene Margolis, Esq., U.S. Department of Energy, Office of General Counsel, Mail Station GC-72, Forrestal Building, 1000 Independence Avenue, SW, Washington, DC 20585-0103, (202) 586-9507.

SUPPLEMENTARY INFORMATION: The Energy Conservation Program for Consumer Products (other than automobiles) was established pursuant to the Energy Policy and Conservation Act, as amended, (EPCA) which requires DOE to prescribe standardized test procedures to measure the energy consumption of certain consumer products, including refrigerators and refrigerator freezers.

The intent of the test procedures is to provide a comparable measure of energy consumption that will assist consumers in making purchasing decisions. These test procedures appear at 10 CFR part 430, Subpart B.

The Department amended the test procedure rules to provide for a waiver process by adding Section 430.27 to 10 CFR part 430. 45 FR 64108, September 26, 1980. Subsequently, DOE amended the waiver process to allow the Assistant Secretary for Energy Efficiency and Renewable Energy (Assistant Secretary) to grant an Interim Waiver from test procedure requirements to manufacturers that have petitioned DOE for a waiver of such prescribed test procedures. 10 CFR part 430, Section 430.27(a)(2).

The waiver process allows the Assistant Secretary to waive temporarily test procedures for a particular basic model when a petitioner shows that the basic model contains one or more design characteristics which prevent testing according to the prescribed test procedures, or when the prescribed test procedures may evaluate the basic model in a manner so unrepresentative of its true energy consumption as to provide materially inaccurate comparative data. Waivers generally remain in effect until final test procedure amendments become effective, resolving the problem that is the subject of the waiver.

An Interim Waiver will be granted if it is determined that the applicant will experience economic hardship if the Application for Interim Waiver is denied, if it appears likely that the Petition for Waiver will be granted, and/or the Assistant Secretary determines that it would be desirable for public policy reasons to grant immediate relief pending a determination on the Petition for Waiver. 10 CFR part 430, Section 430.27 (g). An Interim Waiver remains in effect for a period of 180 days or until DOE issues its determination on the Petition for Waiver, whichever is sooner, and may be extended for an additional 180 days, if necessary.

On November 21, 2000, Electrolux filed an Application for Interim Waiver and a Petition for Waiver regarding variable defrost control timing. Electrolux's Application seeks an Interim Waiver for the variable defrost control calculation in section 4.1.2.1: “* * * The second part would start when the defrost period is initiated during a compressor ‘on’ cycle and terminate at the second turn ‘on’ of the compressor motor or after four hours, whichever comes first.”

This Interim Waiver asks that the above portion of the test procedure section 4.1.2.1 be redefined as follows: “The second part would start when a defrost is initiated when the compressor ‘on’ cycle is terminated prior to start of the defrost heater and terminate at the second turn ‘on’ of the compressor or after four hours, whichever comes first.”

This change in the test procedure allows for the existence of a control that is capable of timing defrost to occur other than during a compressor “on” cycle, thereby taking advantage of the natural warming of the evaporator during an off cycle, and saving additional energy. Technology has advanced sufficiently that it is feasible to design and build a system that no longer has to initiate defrost during a compressor run period, as did the old mechanical defrost timers. Electrolux is asking to have the time before the heaters turn on be included in the defrost period. The evaporator is warming up during this time, with no use of electrical energy.

The current test procedures do not properly account for the energy savings produced by Electrolux's timing of the defrost heater activation, and therefore “may evaluate the basic model in a manner so unrepresentative of its true energy consumption characteristics, as to provide materially inaccurate comparative data.” Thus, it appears likely that this Petition for Waiver will be granted.

Therefore, based on the above, DOE is granting Electrolux an Interim Waiver for its variable defrost control refrigerator-freezer products. Electrolux shall be permitted to test its variable defrost control refrigerator-freezer products on the basis of the test procedures specified in 10 CFR part 430, Subpart B, Appendix A1, with the modification set forth below:

Section 4.1.2.1 currently reads:

“4.1.2.1 Long-time Automatic Defrost. If the model being tested has a long-time automatic defrost system, the test time period may consist of two parts. A first part would be the same as the test for a unit having no defrost provisions (section 4.1.1). The second part would start when a defrost period is initiated during a compressor ‘on’ cycle and terminate at the second turn ‘on’ of the compressor motor or after four hours, whichever comes first.”

Section 4.1.2.1 will be modified to read:

“4.1.2.1 Long-time Automatic Defrost. If the model being tested has a long-time automatic defrost system, the test time period may consist of two parts. A first part would be the same as the test for a unit having no defrost provisions (section 4.1.1). The second part would start when a defrost is initiated when the compressor ‘on’ cycle is terminated prior to start of the defrost heater and terminate at the second turn “on” of the compressor or after four hours, whichever comes first.”

This Interim Waiver is based upon the presumed validity of statements and all allegations submitted by the company. This Interim Waiver may be removed or modified at any time upon a determination that the factual basis underlying the Application is incorrect.

The Interim Waiver shall remain in effect for a period of 180 days or until DOE acts on the Petition for Waiver, whichever is sooner, and may be extended for an additional 180-day period, if necessary.

Electrolux's Petition for Waiver requests DOE to modify the DOE refrigerator test procedure relating to the blower time delay specification. Electrolux seeks to test its variable defrost control products using the modified calculation of Section 4.1.2.1 quoted above. Pursuant to paragraph (b) of 10 CFR part 430.27, DOE is hereby publishing the “Petition for Waiver” in its entirety. The Petition contains no confidential information. The Department solicits comments, data, and information respecting the Petition.

Issued in Washington, DC, on July 30, 2001.
David K. Garman,
Assistant Secretary for Energy Efficiency and Renewable Energy.

Electrolux

November 21, 2000.

Mr. Dan W. Reicher, Assistant Secretary for Energy Efficiency and Renewable Energy, United States Department of Energy, 1000 Independence Avenue, SW., Washington, DC 20585

Petition for Waiver for Test Procedure in Appendix Al to Subpart B of Part 430—Uniform Test Method for Measuring the Energy Consumption of Electric Refrigerators and Electric Refrigerator-Freezers.

On behalf of Electrolux Home Products Co., a Division of White Consolidated Industries Inc., I wish to submit a petition for waiver under 10 CRF 430.27 for the existing test procedures for Para. 4.1.2.1: Long-time Automatic Defrost. This petition for waiver involves refrigerator-freezer products having the variable defrost control function.

Para. 4.1.2.2 Variable defrost control: Currently indicates, “If the model being tested has a variable defrost control system, the test shall consist of three parts. Two parts shall be the same as the test for long-time automatic defrost (section 4.1.2.1 ).”

Para. 4.1.2.1 Long-time Automatic Defrost currently says: “If the model being tested has a long-time automatic defrost system, the test time period may consist of two parts. A first part would be the same as the test for a unit having no defrost provisions (section 4.1.1). The second part would start when a defrost period is initiated during a compressor “on” cycle and terminate at the second turn “on” of the compressor motor or after four hours, whichever comes first.”

The current understanding of Para. 4.1.2.1 is that the “start” of a defrost period is the activation of the defrost heater.

Para. 4.1.2.1, when written, did not conceive of the practicality of a control system that would be capable of utilizing the natural “warming” of an evaporator during the compressor “off” cycle as a means of reducing the energy input required for a defrost period. Hence it was written: “The second part would start when a defrost period is initiated during a compressor “on” cycle, etc”.

The ability to time a defrost period after a normal compressor “off” period offers an improvement in energy efficiency in that the defrost heater is not required to heat the evaporator from its coldest running position to its warmest defrost position which sheds ice from the evaporator.

Our petition requests that Para. 4.1.2.1 be changed to allow the initiation of the defrost period to begin at the end of compressor “run” cycle rather than the initiation of the defrost heater.

The following wording is proposed for Para. “4.1.2.1. Long-time Automatic Defrost: If the model being tested has a long-time automatic defrost system, the test time period may consist of two parts. A first part would be the same as the test for a unit having no defrost provisions (section 4.1.1 ). The second part would start when a defrost period is initiated when the compressor “on” cycle is terminated prior to start of the defrost heater and terminate at the second turn “on” of the compressor or after four hours, whichever comes first.”

This change is clearly within the intent of the test procedure in attempting to recognize all possible ways to improve overall energy efficiency.

We believe that all major domestic manufacturers have utilized, are presently utilizing, or are investigating variable defrost control technology.

The optional variable defrost control test method described in 4.1.2.3 remains a valid procedure. However, it continues to have no change in its deficiencies, requiring excessive amounts of time to reach stabilized door opening conditions, and yet additional time to establish statistical mean time between defrost data. It is expected that the technique described in 4.1.2.1 and 4.1.2.2 will continue to be favored.

Respectfully submitted,

Robert L. Cushman,

Manager Product Development, Electrolux Home Products.

[FR Doc. 01-19437 Filed 8-2-01; 8:45 am]

BILLING CODE 6450-01-P